DEPARTMENT OF HOMELAND SECURITY

Federal Emergency Management Agency

[Docket ID FEMA-2018-0002; Internal Agency Docket No. FEMA-B-1821]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with the Code of Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: May 1, 2018.
David I. Maurstad,
Deputy Associate Administrator for Insurance and Mitigation (Acting), Department of Homeland Security, Federal Emergency Management Agency.

State and county | Location and case No. | Chief executive officer of community | Community map repository | Online location of letter of map revision | Date of modification | Community No.
Alabama:
Lee | City of Auburn (17-04-7132P) | The Honorable Bill Ham, Jr., Mayor, City of Auburn, 144 Tichenor Avenue, Suite 1, Auburn, AL 36830 | City Hall, 144 Tichenor Avenue, Suite 1, Auburn, AL 36830 | https://msc.fema.gov/portal/advanceSearch | Jul. 2, 2018 | 010144
Colorado:
Boulder | City of Louisville (18-08-0269X) | The Honorable Bob Muckle, Mayor, City of Louisville, 749 Main Street, Louisville, CO 80027 | City Hall, 749 Main Street, Louisville, CO 80027 | https://msc.fema.gov/portal/advanceSearch | Jul. 5, 2018 | 085076
Connecticut:
New Haven | City of New Haven (18-01-0359P) | The Honorable Toni N. Harp, Mayor, City of New Haven, 165 Church Street, New Haven, CT 06510 | Planning Department, 165 Church Street, New Haven, CT 06510 | https://msc.fema.gov/portal/advanceSearch | Jun. 22, 2018 | 090084
Florida:
Broward | City of Hollywood (17-04-3432P) | The Honorable Josh Levy, Mayor, City of Hollywood, P.O. Box 229405, Hollywood, FL 33022 | City Hall, 2600 Hollywood Boulevard, Hollywood, FL 33020 | https://msc.fema.gov/portal/advanceSearch | Jun. 20, 2018 | 125113
Charlotte | City of Punta Gorda (18-04-1510P) | The Honorable Rachel Keesling, Mayor, City of Punta Gorda, 326 West Marion Avenue, Punta Gorda, FL 33950 | City Hall, 326 West Marion Avenue, Punta Gorda, FL 33950 | https://msc.fema.gov/portal/advanceSearch | Jun. 29, 2018 | 120062
Collier | Unincorporated areas of Collier County (18-04-1140P) | The Honorable Andy Solis, Chairman, Collier County Board of Commissioners, 3299 Tamiami Trail East, Suite 303, Naples, FL 34112 | Collier County Growth Management Department, 2800 North Horseshoe Drive, Naples, FL 34104 | https://msc.fema.gov/portal/advanceSearch | Jul. 5, 2018 | 120067
Collier | Unincorporated areas of Collier County (18-04-1791P) | The Honorable Andy Solis, Chairman, Collier County Board of Commissioners, 3299 Tamiami Trail East, Suite 303, Naples, FL 34112 | Collier County Growth Management Department, 2800 North Horseshoe Drive, Naples, FL 34104 | https://msc.fema.gov/portal/advanceSearch | Jul. 9, 2018 | 120067
Lee | City of Sanibel (17-04-7625P) | The Honorable Kevin Ruane, Mayor, City of Sanibel, 800 Dunlop Road, Sanibel, FL 33957 | Planning Department, 800 Dunlop Road, Sanibel, FL 33957 | https://msc.fema.gov/portal/advanceSearch | Jun. 25, 2018 | 120402
Miami-Dade | City of Miami (17-04-7381P) | The Honorable Francis Suarez, Mayor, City of Miami, 3500 Pan American Drive, Miami, FL 33133 | Building Department, 444 Southwest 2nd Avenue, Miami, FL 33133 | https://msc.fema.gov/portal/advanceSearch | Jun. 20, 2018 | 120650
Monroe | City of Key West (18-04-1325P) | The Honorable Craig Cates, Mayor, City of Key West, P.O. Box 1409, Key West, FL 33041 | Building Department, 1300 White Street, Key West, FL 33040 | https://msc.fema.gov/portal/advanceSearch | Jul. 5, 2018 | 120168
Monroe | Unincorporated areas of Monroe County (18-04-0838P) | The Honorable David Rice, Mayor, Monroe County Board of Commissioners, 9400 Overseas Highway, Suite 210, Marathon, FL 33050 | Monroe County Building Department, 9805 Overseas Highway, Suite 300, Marathon, FL 33050 | https://msc.fema.gov/portal/advanceSearch | Jun. 15, 2018 | 125129
Monroe | Village of Islamorada (18-04-1512P) | The Honorable Chris Sante, Mayor, Village of Islamorada, 86800 Overseas Highway, Islamorada, FL 33036 | Planning and Development Department, 86800 Overseas Highway, Islamorada, FL 33036 | https://msc.fema.gov/portal/advanceSearch | Jul. 5, 2018 | 120424
Palm Beach | Village of Tequesta (18-04-1101P) | The Honorable Abby Brennan, Mayor, Village of Tequesta, 345 Tequesta Drive, Tequesta, FL 33469 | Building Department, 345 Tequesta Drive, Tequesta, FL 33469 | https://msc.fema.gov/portal/advanceSearch | Jul. 2, 2018 | 120228
Pinellas | City of Clearwater (18-04-0067P) | The Honorable George N. Cretekos, Mayor, City of Clearwater, P.O. Box 4748, Clearwater, FL 33758 | Engineering Department, 100 South Myrtle Avenue, Suite 220, Clearwater, FL 33758 | https://msc.fema.gov/portal/advanceSearch | Jul. 2, 2018 | 125096
Pinellas | City of Clearwater (18-04-0912P) | The Honorable George N. Cretekos, Mayor, City of Clearwater, P.O. Box 4748, Clearwater, FL 33758 | Engineering Department, 100 South Myrtle Avenue, Suite 220, Clearwater, FL 33758 | https://msc.fema.gov/portal/advanceSearch | Jun. 25, 2018 | 125096
Sarasota | Unincorporated areas of Sarasota County (18-04-1102P) | The Honorable Nancy Detert, Chair, Sarasota County Board of Commissioners, 1660 Ringling Boulevard, Sarasota, FL 34236 | Sarasota County Planning and Development Services Department, 1001 Sarasota Center Boulevard, Sarasota, FL 34240 | https://msc.fema.gov/portal/advanceSearch | Jun. 15, 2018 | 125144
Seminole | City of Oviedo (17-04-2581P) | The Honorable Dominic Persampiere, Mayor, City of Oviedo, 400 Alexandria Boulevard, Oviedo, FL 32765 | Public Works Department, 1655 Evans Street, Oviedo, FL 32765 | https://msc.fema.gov/portal/advanceSearch | Jun. 15, 2018 | 120293
Seminole | Unincorporated areas of Seminole County (17-04-2581P) | The Honorable John Horan, Chairman, Seminole County Board of Commissioners, 1101 East 1st Street, Sanford, FL 32771 | Seminole County Development Review Division, 1101 East 1st Street, Sanford, FL 32771 | https://msc.fema.gov/portal/advanceSearch | Jun. 15, 2018 | 120289
Maryland:
Prince George's | Unincorporated areas of Prince George's County (17-03-2338P) | The Honorable Rushern L. Baker, III, Prince George's County Executive, 14741 Governor Oden Bowie Drive, Upper Marlboro, MD 20772 | Prince George's County Department of Stormwater Management, 1801 McCormick Drive, Largo, MD 20774 | https://msc.fema.gov/portal/advanceSearch | Jun. 20, 2018 | 245208
Nevada:
Clark | Unincorporated areas of Clark County (17-09-2685P) | The Honorable Steve Sisolak, Chairman, Clark County Board of Commissioners, 500 South Grand Central Parkway, Las Vegas, NV 89155 | Clark County Department of Public Works, 500 South Grand Central Parkway, Las Vegas, NV 89155 | https://msc.fema.gov/portal/advanceSearch | Jun. 29, 2018 | 320003
New Hampshire:
Hillsborough | City of Manchester (17-01-0477P) | The Honorable Theodore L. Gatsas, Mayor, City of Manchester, 1 City Hall Plaza, Manchester, NH 03101 | Planning and Community Development Department, 1 City Hall Plaza, Manchester, NH 03101 | https://msc.fema.gov/portal/advanceSearch | Jun. 28, 2018 | 330169
North Carolina:
Mitchell | Unincorporated areas of Mitchell County (17-04-0891P) | The Honorable Vern Grindstaff, Chairman, Mitchell County Board of Commissioners 26 Crimson Laurel Circle, Suite 2, Bakersville, NC 28705 | Mitchell County Building Inspections Department, 130 Forest Service Drive, Suite B Bakersville, NC 28705 | http://www.msc.fema.gov/lomc | May 3, 2018 | 370161
Wake | City of Raleigh (16-04-2597P) | The Honorable Nancy McFarlane, Mayor, City of Raleigh, P.O. Box 590, Raleigh, NC 27602 | Stormwater Management Division, 1 Exchange Plaza, Suite 304, Raleigh, NC 27601 | http://www.msc.fema.gov/lomc | Jun. 27, 2018 | 370243
Wake | City of Raleigh (16-04-2710P) | The Honorable Nancy McFarlane, Mayor, City of Raleigh, P.O. Box 590, Raleigh, NC 27602 | Stormwater Management Division, 1 Exchange Plaza, Suite 304, Raleigh, NC 27601 | http://www.msc.fema.gov/lomc | Jun. 27, 2018 | 370243
Wake | Town of Knightdale (16-04-2597P) | The Honorable James Roberson, Mayor, Town of Knightdale, 950 Steeple Square Court, Knightdale, NC 27545 | Town Hall, 950 Steeple Square Court, Knightdale, NC 27545 | http://www.msc.fema.gov/lomc | Jun. 27, 2018 | 370241
Pennsylvania:
Bedford | Borough of Hyndman (17-03-2585P) | The Honorable Newton Huffman, Mayor, Borough of Hyndman, P.O. Box 74, Hyndman, PA 15545 | Borough Hall, 3945 Center Street, Hyndman, PA 15545 | https://msc.fema.gov/portal/advanceSearch | Jun. 25, 2018 | 420121
Bedford | Township of Londonderry (17-03-2585P) | The Honorable Stephen Stouffer, Chairman, Township of Londonderry Board of Supervisors, P.O. Box 215, Hyndman, PA 15545 | Township Hall, 4303 Hyndman Road, Hyndman, PA 15545 | https://msc.fema.gov/portal/advanceSearch | Jun. 25, 2018 | 421345
Dauphin | Township of Derry (17-03-2539P) | The Honorable Marc A. Moyer, Chairman, Township of Derry Board of Supervisors, 600 Clearwater Road, Hershey, PA 17033 | Community Development Department, 600 Clearwater Road, Hershey, PA 17033 | https://msc.fema.gov/portal/advanceSearch | Jul. 6, 2018 | 420376
Lancaster | Township of Manheim (17-03-1486P) | Mr. Sean P. Molchany, Manager-Secretary, Township of Manheim, 1840 Municipal Drive, Lancaster, PA 17601 | Township Hall, 1840 Municipal Drive, Lancaster, PA 17601 | https://msc.fema.gov/portal/advanceSearch | Jun. 15, 2018 | 420556
Lycoming | Township of Loyalsock (18-03-0265P) | Mr. William Burdett, Manager, Township of Loyalsock, 2501 East 3rd Street, Williamsport, PA 17701 | Township Hall, 2501 East 3rd Street, Williamsport, PA 17701 | https://msc.fema.gov/portal/advanceSearch | Jun. 19, 2018 | 421040
Somerset | Borough of Rockwood (18-03-0266P) | The Honorable Melissa Cramer, Mayor, Borough of Rockwood, 669 Somerset Avenue, Rockwood, PA 15557 | Borough Hall, 669 Somerset Avenue, Rockwood, PA 15557 | https://msc.fema.gov/portal/advanceSearch | Jun. 20, 2018 | 422045
South Carolina:
Berkley | Unincorporated areas of Berkley County (18-04-1462P) | The Honorable William W. Peagler, III, Berkley County Supervisor, P.O. Box 6122, Moncks Corner, SC 29461 | Berkeley County Planning and Zoning Department, 1003 Highway 52, Moncks Corner, SC 29461 | https://msc.fema.gov/portal/advanceSearch | Jul. 5, 2018 | 450029
Charleston | City of Folly Beach (17-04-4686P) | The Honorable Timothy M. Goodwin, Mayor, City of Folly Beach, P.O. Box 48, Folly Beach, SC 29439 | Building Department, 21 Center Street, Folly Beach, SC 29439 | https://msc.fema.gov/portal/advanceSearch | Jun. 20, 2018 | 455415
York | Town of Fort Mill (18-04-0146P) | The Honorable Guynn Savage, Mayor, Town of Fort Mill, P.O. Box 159, Fort Mill, SC 29716 | Town Hall, 200 Tom Hall Street, Fort Mill, SC 29715 | https://msc.fema.gov/portal/advanceSearch | Jun. 27, 2018 | 450195
York | Unincorporated areas of York County (18-04-0146P) | The Honorable Britt Blackwell, Chairman, York County Council, P.O. Box 66, Rock Hill, SC 29745 | York County Planning and Development Department, 1070 Heckle Boulevard, Suite 107, Rock Hill, SC 29732 | https://msc.fema.gov/portal/advanceSearch | Jun. 27, 2018 | 450193
South Dakota:
Pennington | City of Rapid City (17-08-1343P) | The Honorable Steve Allender, Mayor, City of Rapid City, 300 6th Street, Rapid City, SD 57701 | Public Works Department, Engineering Services Division, 300 6th Street, Rapid City, SD 57701 | https://msc.fema.gov/portal/advanceSearch | Jun. 29, 2018 | 465420
Texas:
Bexar | City of Balcones Heights (17-06-0549P) | The Honorable Suzanne de Leon, Mayor, City of Balcones Heights, 3300 Hillcrest Drive, Balcones Heights, TX 78201 | Community Development Department, 3300 Hillcrest Drive, Balcones Heights, TX 78201 | https://msc.fema.gov/portal/advanceSearch | Jul. 2, 2018 | 481094
Bexar | City of Kirby (17-06-3964P) | The Honorable Lisa B. Pierce Mayor, City of Kirby, 112 Bauman Street, Kirby, TX 78219 | City Hall, 112 Bauman Street, Kirby, TX 78219 | https://msc.fema.gov/portal/advanceSearch | Jun. 28, 2018 | 480041
Bexar | City of Leon Valley (17-06-2511P) | The Honorable Chris Riley, Mayor, City of Leon Valley, 6400 El Verde Road, Leon Valley, TX 78238 | Community Development Department, 6400 El Verde Road, Leon Valley, TX 78238 | https://msc.fema.gov/portal/advanceSearch | Jul. 2, 2018 | 480042
Bexar | City of Leon Valley (17-06-2527P) | The Honorable Chris Riley, Mayor, City of Leon Valley, 6400 El Verde Road, Leon Valley, TX 78238 | Community Development Department, 6400 El Verde Road, Leon Valley, TX 78238 | https://msc.fema.gov/portal/advanceSearch | Jul. 2, 2018 | 480042
Bexar | City of San Antonio (17-06-0549P) | The Honorable Ron Nirenberg, Mayor, City of San Antonio, P.O. Box 839966, San Antonio, TX 78283 | Transportation and Capital Improvements Department, Storm Water Division, 1901 South Alamo Street, 2nd Floor, San Antonio, TX 78204 | https://msc.fema.gov/portal/advanceSearch | Jul. 2, 2018 | 480045
Bexar | City of San Antonio (17-06-0568P) | The Honorable Ron Nirenberg, Mayor, City of San Antonio, P.O. Box 839966, San Antonio, TX 78283 | Transportation and Capital Improvements Department, Storm Water Division, 1901 South Alamo Street, 2nd Floor, San Antonio, TX 78204 | https://msc.fema.gov/portal/advanceSearch | Jun. 25, 2018 | 480045
Bexar | City of San Antonio (17-06-2972P) | The Honorable Ron Nirenberg, Mayor, City of San Antonio, P.O. Box 839966, San Antonio, TX 78283 | Transportation and Capital Improvements Department, Storm Water Division, 1901 South Alamo Street, 2nd Floor, San Antonio, TX 78204 | https://msc.fema.gov/portal/advanceSearch | Jul. 2, 2018 | 480045
Brazoria | City of Manvel (17-06-3110P) | The Honorable Debra Davison, Mayor, City of Manvel, 20025 Highway 6, Manvel, TX 77578 | City Hall, 20025 Highway 6, Manvel, TX 77578 | https://msc.fema.gov/portal/advanceSearch | Jun. 29, 2018 | 480076
Brazoria | City of Pearland (17-06-3110P) | Mr. Clay Pearson, Manager, City of Pearland, 3519 Liberty Drive, Pearland, TX 77581 | City Hall, 3519 Liberty Drive, Pearland, TX 77581 | https://msc.fema.gov/portal/advanceSearch | Jun. 29, 2018 | 480077
Brazoria | Unincorporated areas of Brazoria County (17-06-3110P) | The Honorable L.M. “Matt” Sebesta, Jr., Brazoria County Judge, 111 East Locust Street, Suite 102A, Angleton, TX 77515 | Brazoria County West Annex, 451 North Velasco, Suite 210, Angleton, TX 77515 | https://msc.fema.gov/portal/advanceSearch | Jun. 29, 2018 | 485458
Collin | Town of Plano (17-06-3654P) | The Honorable Harry LaRosiliere, Mayor, City of Plano, 1520 K Avenue, Plano, TX 75074 | Engineering Department, 1520 K Avenue, Plano, TX 75074 | https://msc.fema.gov/portal/advanceSearch | Jun. 15, 2018 | 480140
El Paso | City of El Paso (18-06-0747P) | Mr. Tommy Gonzales, Manager, City of El Paso, 300 North Campbell Street, El Paso, TX 79901 | City Hall, 801 Texas Avenue, El Paso, TX 79901 | https://msc.fema.gov/portal/advanceSearch | Jun. 18, 2018 | 480214
Harris | Unincorporated areas of Harris County (17-06-1728P) | The Honorable Edward M. Emmett, Harris County Judge, 1001 Preston Street, Suite 911, Houston, TX 77002 | Harris County Permit Office, 10555 Northwest Freeway, Suite 120, Houston, TX 77002 | https://msc.fema.gov/portal/advanceSearch | Jun. 11, 2018 | 480287
Harris | Unincorporated areas of Harris County (17-06-3887P) | The Honorable Edward M. Emmett, Harris County Judge, 1001 Preston Street, Suite 911, Houston, TX 77002 | Harris County Permit Office, 10555 Northwest Freeway, Suite 120, Houston, TX 77002 | https://msc.fema.gov/portal/advanceSearch | Jun. 11, 2018 | 480287
Harris | Unincorporated areas of Harris County (18-06-0276P) | The Honorable Edward M. Emmett, Harris County Judge, 1001 Preston Street, Suite 911, Houston, TX 77002 | Harris County Permit Office, 10555 Northwest Freeway, Suite 120, Houston, TX 77002 | https://msc.fema.gov/portal/advanceSearch | Jun. 18, 2018 | 480287
Lamar | City of Paris (17-06-3047P) | The Honorable Steve Clifford, Mayor, City of Paris, P.O. Box 9037, Paris, TX 75460 | Engineering, Planning and Development Department, 150 Southeast 1st Street, Paris, TX 75460 | https://msc.fema.gov/portal/advanceSearch | Jul 3, 2018 | 480427
Tarrant | City of Arlington (17-06-3146P) | The Honorable W. Jeff Williams, Mayor, City of Arlington, P.O. Box 90231, Arlington, TX 76010 | City Hall, 101 West Abram Street, Arlington, TX 76010 | https://msc.fema.gov/portal/advanceSearch | Jun. 29, 2018 | 485454
Tarrant | City of Fort Worth (17-06-4262P) | The Honorable Betsy Price, Mayor, City of Fort Worth, 200 Texas Street, Fort Worth, TX 76102 | Transportation and Public Works Department, 200 Texas Street, Fort Worth, TX 76102 | https://msc.fema.gov/portal/advanceSearch | Jun. 25, 2018 | 480596
Tarrant | City of Grand Prairie (17-06-3146P) | The Honorable Ron Jensen, Mayor, City of Grand Prairie, P.O. Box 534045, Grand Prairie, TX 75053 | City Hall, 206 West Church Street, Grand Prairie, TX 75050 | https://msc.fema.gov/portal/advanceSearch | Jun. 29, 2018 | 485472
Williamson | City of Taylor (17-06-2515P) | The Honorable Brandt Rydell, Mayor, City of Taylor, 400 Porter Street, Taylor, TX 76574 | Department of Public Works, 400 Porter Street, Taylor, TX 76574 | https://msc.fema.gov/portal/advanceSearch | Jun. 29, 2018 | 480670
Utah:
Washington | City of Washington (17-08-1258P) | The Honorable Ken Neilson, Mayor, City of Washington, 111 North 100 East, Washington, UT 84780 | Public Works Department, 1305 East Washington Dam Road, Washington, UT 84780 | https://msc.fema.gov/portal/advanceSearch | Jul. 9, 2018 | 490182
Virginia:
Fairfax | Unincorporated areas of Fairfax County (17-03-2338P) | Mr. Bryan Hill, Fairfax County Executive, 12000 Government Center Parkway, Fairfax, VA 22035 | Fairfax County Government Center, 12000 Government Center Parkway, Suite 449, Fairfax, VA 22035 | https://msc.fema.gov/portal/advanceSearch | Jun. 20, 2018 | 515525
Loudoun | Town of Leesburg (18-03-0635P) | The Honorable Kelly Burk, Mayor, Town of Leesburg, 25 West Market Street, Leesburg, VA 20176 | Department of Plan Review, 25 West Market Street, Leesburg, VA 20176 | https://msc.fema.gov/portal/advanceSearch | Jul. 6, 2018 | 510091
Prince William | Unincorporated areas of Prince William County (17-03-1826P) | Mr. Christopher E. Martino, Executive, Prince William County, 1 County Complex Court, Prince William, VA 22192 | Prince William County Department of Public Works, 5 County Complex Court, Prince William, VA 22192 | https://msc.fema.gov/portal/advanceSearch | Jun. 28, 2018 | 510119

[FR Doc. 2018-09699 Filed 5-7-18; 8:45 am]

BILLING CODE 9110-12-P